DEPARTMENT OF HOMELAND SECURITY

Federal Emergency Management Agency

44 CFR Part 67

[Docket ID FEMA-2010-0003; Internal Agency Docket No. FEMA-B-1110]

Proposed Flood Elevation Determinations

AGENCY: Federal Emergency Management Agency, DHS.

ACTION: Proposed rule; correction.

SUMMARY: On April 14, 2010, FEMA published in the Federal Register a proposed rule that contained an erroneous table. This notice provides corrections to that table, to be used in lieu of the information published at 75 FR 19320. The table provided here represents the flooding sources, location of referenced elevations, effective and modified elevations, and communities affected for Sumter County, Alabama, and Incorporated Areas. Specifically, it addresses the following flooding sources: Factory Creek (backwater effects from Tombigbee River), Fenache Creek (backwater effects from Tombigbee River), Folsum Branch (backwater effects from Tombigbee River), High Run (backwater effects from Tombigbee River), Jones Creek (backwater effects from Tombigbee River), Noxubee River (backwater effects from Tombigbee River), Sandy Creek, Sucarnoochee River, Tombigbee River, Tombigbee River Tributary 13 (backwater effects from Tombigbee River), Tombigbee River Tributary 16 (backwater effects from Tombigbee River, Tombigbee River Tributary 7 (backwater effects from Tombigbee River), Tombigbee River Tributary 8 (backwater effects from Tombigbee River), Toomsuba Creek, and Whiterock Creek (backwater effects from Sucarnoochee River).

DATES: Comments are to be submitted on or before June 14, 2011.

ADDRESSES: You may submit comments, identified by Docket No. FEMA-B-1110, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 19321, in the April 14, 2010, issue of the Federal Register, FEMA published a table under the authority of 44 CFR 67.4. The table, entitled “Sumter County, Alabama, and Incorporated Areas” addressed the following flooding sources: Factory Creek (Backwater effects from Tombigbee River), Fenache Creek (Backwater effects from Tombigbee River), Folsum Branch (Backwater effects from Tombigbee River), High Run (Backwater effects from Tombigbee River), Jones Creek (Backwater effects from Tombigbee River), Noxubee River (Backwater effects from Tombigbee River), Sandy Creek, Sucarnoochee River, Tombigbee River, Tombigbee River Trib 13 (Backwater effects from Tombigbee River), Tombigbee River Trib 16 (Backwater effects from Tombigbee River, Tombigbee River Trib 7 (Backwater effects from Tombigbee River), Tombigbee River Trib 8 (Backwater effects from Tombigbee River), Toomsuba Creek, and Whiterock Creek (Backwater effects from Sucarnoochee River). That table contained inaccurate information as to the location of referenced elevation, effective and modified elevation in feet, and/or communities affected for that flooding source. In this notice, FEMA is publishing a table containing the accurate information, to address these prior errors. The information provided below should be used in lieu of that previously published.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sumter County, Alabama, and Incorporated Areas
Factory Creek (backwater effects from Tombigbee River) | From the confluence with the Tombigbee River to approximately 1,600 feet upstream of County Road 21 | None | +115 | Unincorporated Areas of Sumter County.
Fenache Creek (backwater effects from Tombigbee River) | From the confluence with the Tombigbee River to approximately 0.5 mile downstream of County Road 4 | None | +126 | Unincorporated Areas of Sumter County.
Folsum Branch (backwater effects from Tombigbee River) | From the confluence with the Tombigbee River to approximately 500 feet upstream of Fulson Branch Road | None | +120 | Town of Gainesville.
High Run (backwater effects from Tombigbee River) | From the confluence with the Tombigbee River to approximately 2.3 miles upstream of the confluence with the Tombigbee River | None | +103 | Unincorporated Areas of Sumter County.
Jones Creek (backwater effects from Tombigbee River) | From the confluence with the Tombigbee River to approximately 2,100 feet upstream of County Road 20 | None | +114 | Town of Epes.
Noxubee River (backwater effects from Tombigbee River) | From the confluence with the Tombigbee River to approximately 7.3 miles upstream of County Road 85 | None | +122 | Unincorporated Areas of Sumter County.
Sandy Creek | Approximately 1 mile downstream of State Route 28 | None | +115 | Unincorporated Areas of Sumter County.
| Approximately 1,673 feet downstream of East Park Road | None | +117
Sucarnoochee River | Approximately 1.6 miles downstream of railroad | None | +115 | Unincorporated Areas of Sumter County.
| Approximately 1.4 miles upstream of U.S. Route 11 | None | +120
Tombigbee River | Approximately 29.4 miles downstream of U.S. Route 11 | None | +95 | Town of Epes.
| Approximately 12.7 miles upstream of the Gainesville Dam | None | +130
Tombigbee River Tributary 13 (backwater effects from Tombigbee River) | From the confluence with the Tombigbee River to approximately 585 feet downstream of Port of Unnamed Road | None | +108 | Unincorporated Areas of Sumter County.
Tombigbee River Tributary 16 (backwater effects from Tombigbee River) | From the confluence with the Tombigbee River to approximately 740 feet downstream of Port of Epes Highway | None | +113 | Unincorporated Areas of Sumter County.
Tombigbee River Tributary 7 (backwater effects from Tombigbee River) | From the confluence with the Tombigbee River to approximately 1.2 miles downstream of Pine Top Road | None | +96 | Unincorporated Areas of Sumter County.
Tombigbee River Tributary 8 (backwater effects from Tombigbee River) | From the confluence with the Tombigbee River to approximately 0.6 mile upstream of Trails End Road | None | +101 | Unincorporated Areas of Sumter County.
Toomsuba Creek | Approximately 0.7 mile downstream of the railroad | None | +148 | Unincorporated Areas of Sumter County.
| Approximately 750 feet upstream of U.S. Route 11 | None | +164
Whiterock Creek (backwater effects from Sucarnoochee River) | From the confluence with the Sucarnoochee River to approximately 1,073 feet downstream of Arrington Street | None | +116 | Unincorporated Areas of Sumter County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Epes
Maps are available for inspection at 40 Carrol Street, Epes, AL 35464.
Town of Gainesville
Maps are available for inspection at 9380 State Street, Gainesville, AL 35464.
Unincorporated Areas of Sumter County
Maps are available for inspection at 318 Washington Street, Livingston, AL 35470.

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-6060 Filed 3-15-11; 8:45 am]

BILLING CODE 9110-12-P